DEPARTMENT OF THE INTERIOR

Office of the Secretary

[DOI-2021-0008]

Advancing Racial Equity and Support for Underserved Communities Through Recreation Opportunities

AGENCY: Office of the Secretary, Interior.

ACTION: Notice of listening sessions and request for public comments.

SUMMARY: As part of its implementation of an Executive order, Advancing Racial Equity and Support for Underserved Communities Through the Federal Government, the Department of the Interior (DOI) is conducting five virtual listening sessions and inviting public comments to obtain stakeholder input on barriers that underserved communities and individuals may face in participating in recreation opportunities on DOI-managed public lands and waters.

DATES: DOI will hold five virtual listening sessions on the following dates:

—October 19, 2021 from 5:00 p.m.-7:00 p.m. ET

—October 21, 2021 from 8:00 p.m.-10:00 p.m. ET

—October 25, 2021 from 5:00 p.m.-7:00 p.m. ET

—October 26, 2021 from 8:00 p.m.-10:00 p.m. ET

—October 27, 2021 from 5:00 p.m.-7:00 p.m. ET

Interested persons are also invited to submit comments in writing or online (see ADDRESSES below) on or before November 18, 2021.

ADDRESSES: We invite you to submit comments on this notice. You may submit comments online at https://www.regulations.gov by entering “DOI-2021-0008” in the Search bar and clicking “Search” or by mail to U.S. Department of the Interior, Office of Policy Analysis—Mailstop 3530, ATTN: E.O. 13985 Recreation Comments, 1849 C Street NW, Washington, DC 20240. You may respond to some or all of the questions listed in the “Supplementary Information—Questions” section of this document. All public comments received are subject to the Freedom of Information Act and will be posted in their entirety at https://www.regulations.gov, including any personal or business confidential information provided. Do not include any information you would not like to be made publicly available.

If you plan to attend one of the virtual listening sessions and need assistance in a language other than English or if you are a person with disabilities who needs a reasonable accommodation, please contact DEIA@ios.doi.gov.

FOR FURTHER INFORMATION CONTACT: Kim Oliver, D&I Strategist, Office of Diversity, Inclusion, and Civil Rights, DEIA@ios.doi.gov. (202) 208-7301.

SUPPLEMENTARY INFORMATION:

Background

On January 20, 2021, President Joseph R. Biden issued Executive Order 13985 on Advancing Racial Equity and Support for Underserved Communities through the Federal Government. In response to Executive Order 13985, DOI is consulting with members of communities who have been historically underrepresented in the Federal Government and underserved by, or subject to discrimination, in Federal policies and programs. The term “underserved communities” refers to populations sharing a particular characteristic, as well as geographic communities, that have been systematically denied a full opportunity to participate in aspects of economic, social, and civic life, such as Black, Latino, and Indigenous and Native American persons, Asian Americans and Pacific Islanders and other persons of color; members of religious minorities; lesbian, gay, bisexual, transgender, questioning/queer and related identities (LGBTQ+) persons; persons with disabilities; persons who live in rural areas; and persons otherwise adversely affected by persistent poverty or inequality. In addition to identifying barriers, DOI seeks recommendations on how to update processes, policies, regulations, and guidance to address inequities associated with recreation on DOI-managed public lands and waters. While all members of the public are invited to submit comments, the target audience for listening sessions is members of the underserved communities identified in Executive Order 13985, which includes:

• Black, Latino, and Indigenous and Native American persons, Asian Americans and Pacific Islanders and other persons of color;

• LGBTQ+ persons;

• Persons with disabilities;

• Persons who live in rural areas; and

• Persons otherwise adversely affected by persistent poverty or inequality.

Questions for Discussion

The Department of the Interior is generally interested in input on the following questions, where applicable:

1. What are the barriers to visiting public lands and waters managed by DOI (including the Bureau of Land Management, Bureau of Reclamation, National Park Service, and U.S. Fish and Wildlife Service)?

2. How can DOI remove or reduce barriers (e.g., update policies, practices, or programs) that underserved communities and individuals may face when they recreate or attempt to recreate on DOI-managed lands and waters?

3. How can DOI establish and maintain connections to a wider and more diverse set of stakeholders representing underserved communities? What are the best ways to notify and engage underserved stakeholders about recreational opportunities?

Comments received in response to this notice and from listening sessions will be evaluated and, as appropriate, incorporated into DOI's efforts to improve access to recreational opportunities on DOI-managed public lands and waters.

Listening Session Registration Information

Advanced registration for individuals and groups is strongly encouraged. For additional information about the listening sessions and to register for a listening session, please visit https://www.doi.gov/ppa/equity/13985. Details for the sessions will be posted to the website and additional information will be emailed to registered participants in advance of the sessions.

Eric Werwa,
Acting Principal Deputy Assistant Secretary—Policy, Management and Budget.

[FR Doc. 2021-22766 Filed 10-15-21; 11:15 am]

BILLING CODE 4334-63-P